DEPARTMENT OF VETERANS AFFAIRS

Advisory Committee on Former Prisoners of War; Notice of Meeting

The Department of Veterans Affairs (VA) gives notice under Public Law 92-463 (Federal Advisory Committee Act) that the Advisory Committee on Former Prisoners of War has scheduled a meeting on October 25-27, 2010, in the Reynolds Conference Suite at Alexander Hall, 718 Baylor Avenue, Baylor University, Waco, Texas. The meeting will be held each day from 9 a.m. to 4 p.m.

The purpose of the Committee is to advise the Secretary of Veterans Affairs on the administration of benefits under Title 38, United States Code, for veterans who are former prisoners of war, and to make recommendations on the needs of such veterans for compensation, health care, and rehabilitation.

On the morning of October 25, the Committee will hear from its Chairman and the new Director, Compensation and Pension Service. They will receive briefings on the Employee Education System, Veterans Health Initiative and Robert E. Mitchell Center. In the afternoon, the Committee will then convene a closed session in order to protect patient privacy as the Committee tours the Waco VA Regional Office. On the morning of October 26, the Committee will convene a closed session as the Committee tours the Temple VA Medical Center. Closing portions of these sessions is in accordance with 5 U.S.C. 552b(c)(6). In the afternoon, the Committee will resume in open session and hear presentations from the Assistant Chief of Staff, Clinical Support and Community Relations, and Waco Regional Office POW Coordinator. On October 27, the Committee will discuss their 2010 recommendations and draft of their final Committee report.

Public comments will be received at 2 p.m. on October 26. Individuals who speak are invited to submit 1-2 page summaries of their comments at the end of the meeting for inclusion in the official meeting record. Members of the public may also submit written statements for the Committee's review to Mr. Jim Adams, Executive Assistant, Compensation and Pension Service, Department of Veterans Affairs, 810 Vermont Avenue, NW., Washington, DC 20420, or e-mail at jim.adams1@va.gov. Any member of the public seeking additional information should contact Mr. Adams at (202) 461-9659.

Dated: October 4, 2010.
By Direction of the Secretary
Vivian Drake,
Acting Committee Management Officer.

[FR Doc. 2010-25368 Filed 10-7-10; 8:45 am]

BILLING CODE P